DEPARTMENT OF EDUCATION

List of Approved “Ability-to-Benefit” Tests and Passing Scores

AGENCY: Department of Education.

ACTION: Notice to remove the American College Testing Assessment test from the list of approved “ability-to-benefit” tests.

SUMMARY: The Secretary gives notice that the American College Testing (ACT) Assessment: (English and Math) test is being withdrawn, at the request of the test publisher, from the list of approved “ability-to-benefit” (ATB) tests. The ACT Assessment test consists of a test of English and a test of Math.

With this notice, the Secretary is amending the list of approved ATB tests and passing scores that were published in the Federal Register on April 19, 2002, under the authority of section 484(d) of the Higher Education Act of 1965, as amended (HEA) and the regulations the Secretary promulgated to implement that section in 34 CFR part 668, subpart J, by removing the ACT Assessment test and its passing scores. An institution will no longer be permitted to use this test to determine if a student who does not have a high school diploma or its recognized equivalent, is eligible to receive funds under any title IV, HEA program. The title IV, HEA programs include the Federal Pell Grant, Federal Family Education Loan, William D. Ford Federal Direct Loan, Federal Perkins Loan, Federal Work-Study, Federal Supplemental Educational Opportunity Grant, and the Leveraging Educational Assistance Partnership (LEAP) programs.

Transition

Institutions are allowed to continue to make ATB eligibility determinations using the tests and passing scores that were listed in the April 19, 2002 Federal Register, including the American College Testing (ACT) Assessment: (English and Math) until January 2, 2003. After that date only the tests and passing scores included in this notice may be used.

FOR FURTHER INFORMATION CONTACT: Lorraine Kennedy, U.S. Department of Education, 400 Maryland Avenue, SW., (830 Union Center Plaza), Washington, DC 20202-5345. Telephone: (202) 377-4050.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION: On October 25, 1996, we published a notice in the Federal Register (61 FR 55542-55543) that provided a list of eight “ability-to-benefit” tests. These tests were approved under section 484(d) of the HEA and the regulations that were promulgated to implement that section in 34 CFR part 668, subpart J. The notice also included approved passing scores for each of the approved tests.

In a notice published in the Federal Register on October 27, 1998, (63 FR 57540-57541), we added the American College Testing (ACT) Assessment to the list of approved ability-to-benefit tests.

In a notice published in the Federal Register on May 5, 1999, (64 FR 24246-24247), we indicated that the nine approved ATB tests could be used for testing students with disabilities if the tests are given in a manner that is consistent with the applicable requirements of section 504 of the Rehabilitation Act of 1973 and the Americans with Disabilities Act.

In a notice on January 12, 2001 (66 FR 2892-2893), we approved the Combined English Language Skills Assessment (CELSA) test as an English as a Second Language (ESL) test under 34 CFR 668.153(a)(9) and (a)(4).

Additionally, in a notice published in the Federal Register on April 19, 2002, (67 FR 19430-19432), we extended the Secretary's approval of seven ATB tests for five years and at the request of the test publisher removed the Test of Adult Basic Education (TABE)—Forms 5 and 6, Level A as an approved ATB test.

List of Approved Tests and Passing Scores: For the convenience of all interested parties, we have listed the eight ATB tests and passing scores.

1. ASSET Program: Basic Skills Tests (Reading, Writing, and Numerical)—Forms B2, C2, D2 and E2.

Passing Scores: The approved passing scores on this test are as follows: Reading (35), Writing (35), and Numerical (33).

Publisher: The test publisher and the address, contact person, telephone, and fax number of the test publisher are: American College Testing (ACT), Placement Assessment Programs, 2201 North Dodge Street, P.O. Box 168, Iowa City, Iowa 52243.

Contact: Dr. John D. Roth. Telephone: (319) 337-1030. Fax: (319) 337-1790.

2. Career Programs Assessment (CPAT) Basic Skills Subtests (Language Usage, Reading and Numerical)—Forms B and C.

Passing Scores: The approved passing scores on this test are as follows: Language Usage (42), Reading (43), and Numerical (41).

Publisher: The test publisher and the address, contact person, telephone, and fax number of the test publisher are: American College Testing (ACT), Placement Assessment Programs, 2201 North Dodge Street, P.O. Box 168, Iowa City, Iowa 52243.

Contact: Dr. John D. Roth. Telephone: (319) 337-1030. Fax: (319) 337-1790.

3. COMPASS Subtests: Prealgebra/Numerical Skills Placement, Reading Placement, and Writing Placement.

Passing Scores: The approved passing scores on this test are as follows: Prealgebra/Numerical (25), Reading (62), and Writing (32).

Publisher: The test publisher and the address, contact person, telephone, and fax number of the test publisher are: American College Testing (ACT), Placement Assessment Programs, 2201 North Dodge Street, P.O. Box 168, Iowa City, Iowa 52243.

Contact: Dr. John D. Roth. Telephone: (319) 337-1030. Fax: (319) 337-1790.

4. Combined English Language Skills Assessment (CELSA), Forms 1 and 2.

Passing Scores: The approved passing scores on this test are as follows: CELSA Form 1 (90) and CELSA Form 2 (90).

Publisher: The test publisher and the address, contact person, telephone, and fax number of the test publisher are: Association of Classroom Teacher Testers (ACTT), 1187 Coast Village Road, PMB 378, Montecito, California 93108-2794.

Contact: Pablo Buckelew. Telephone: (805) 569-0734. Fax: (805) 569-0004.

5. Computerized Placement Tests (CPTs)/Accuplacer (Reading Comprehension, Sentence Skills, and Arithmetic).

Passing Scores: The approved passing scores on this test are as follows: Reading Comprehension (55), Sentence Skills (60), and Arithmetic (34).

Publisher: The test publisher and the address, contact person, telephone, and fax number of the test publisher are: The College Board, 45 Columbus Avenue, New York, New York 10023-6992.

Contact: Ms. Suzanne Murphy. Telephone: (405) 842-9891. Fax: (405) 842-9894.

6. Descriptive Tests: Descriptive Tests of Language Skills (DTLS) (Reading Comprehension, Sentence Structure and Conventions of Written English)—Forms M-K-3KDT and M-K-3LDT; and Descriptive Tests of Mathematical Skills (DTMS) (Arithmetic)—Forms M-K-3KDT and M-K-3LDT.

Passing Scores: The approved passing scores on this test are as follows: Reading Comprehension (108), Sentence Structure (9), Conventions of Written English (309), and Arithmetic (506).

Publisher: The test publisher and the address, contact person, telephone, and fax number of the test publisher are: The College Board, 45 Columbus Avenue, New York, New York 10023-6992.

Contact: Ms. Suzanne Murphy. Telephone: (405) 842-9891. Fax: (405) 842-9894.

7. Test of Adult Basic Education (TABE): (Reading, Total Mathematics, Language)—Forms 7 and 8, Level A, Complete Battery and Survey Versions.

Passing Scores: The approved passing scores on this test are as follows: Reading (559), Total Mathematics (562), Language (545).

Publisher: The test publisher and the address, contact person, telephone, and fax number of the test publisher are: CTB/McGraw-Hill, 20 Ryan Ranch Road, Monterey, California 93940-5703.

Contact: Ms. Veronika Guerrero. Telephone: (831) 393-6416. Fax: (831) 393-7128.

8. Wonderlic Basic Skills Test (WBST)—Verbal Forms VS-1 & VS-2, Quantitative Forms QS-1 & QS-2.

Passing scores: The approved passing scores on this test are as follows: Verbal (200) and Quantitative (210).

Publisher: The test publisher and the address, contact person, telephone, and fax number of the test publisher are: Wonderlic Personnel Test, Inc., 1795 N. Butterfield Road, Libertyville, IL 60048.

Contact: Mr. Victor S. Artese. Telephone: (800) 323-3742.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 1091(d).

Dated: August 28, 2002.
Candace M. Kane,
Acting Chief Operating Officer, Federal Student Aid.

[FR Doc. 02-22547 Filed 9-3-02; 8:45 am]

BILLING CODE 4000-01-P